DEPARTMENT OF THE INTERIOR

U.S. Geological Survey

Request for Public Comments on a Proposed New Information Collection To Be Submitted to OMB for Review Under the Paperwork Reduction Act

A request for a new information collection described below will be submitted to the Office of Management and Budget (OMB) for approval under the provisions of the Paperwork Reduction Act (44 U.S.C. Chapter 35). Copies of the proposed collection may be obtained by contacting the USGS Clearance Officer at the phone number listed below. Comments on the proposal should be made within 60 days to the Bureau Clearance Officer, U.S. Geological Survey, 807 National Center, Reston, VA 20192.

As required by OMB regulations at 5 CFR 1320.8(d)(1), the USGS solicits specific public comments as to:

1. Whether the collection of information is necessary for the proper performance of the functions on the bureaus, including whether the information will have practical utility;

2. The accuracy of the bureau's estimate of the burden of the collection of information, including the validity of the methodology and assumptions used;

3. The quality, utility, and clarity of the information to be collected; and

4. How to minimize the burden of the collection of information on those who are to respond, including the use of appropriate automated, electronic, mechanical, or other forms of information technology.

Title: Community Survey of Rappahannock River Residents

OMB Approval No: New collection

Summary: This information collection is in support of development of a Comprehensive Conservation Plan for Rappahannock National Wildlife Refuge. Under the National Wildlife Refuge System Improvement Act of 1997, all national wildlife refuges are required to develop a Comprehensive Conservation Plan (CCP). A CCP is a document that provides a framework for guiding refuge management decisions. This planning process ensures the opportunity for active public involvement in the preparation and revision of comprehensive conservation plans. This information collection will inform the planning process by providing information to the U.S. Fish and Wildlife Service on the attitudes and opinions of local residents regarding Rappahannock National Wildlife Refuge and its management.

Estimated Completion Time: 20 minutes.

Estimated Annual Number of Respondents: 1,000.

Frequency: One time.

Estimated Annual Burden Hours: 333 hours.

Affected Public: Residents adjacent to the Rappahannock River Basin, Virginia.

FOR FURTHER INFORMATION CONTACT: To obtain copies of the survey, contact the Bureau clearance office, U.S. Geological Survey, 807 National Center, 12201 Sunrise Valley Drive, Reston, Virginia, 20192, telephone (703) 648-7313.

Dated: July 14, 2005.
Susan D. Haseltine,
Associate Director for Biology

[FR Doc. 05-14317 Filed 7-20-05; 8:45 am]

BILLING CODE 4310-47-M